FEDERAL ELECTION COMMISSION

Sunshine Act Meeting

AGENCY: Federal Election Commission.

DATE AND TIME: Tuesday, September 13, 2016 at 10:00 a.m.

PLACE: 999 E Street NW., Washington, DC.

STATUS: This meeting will be closed to the public.

FEDERAL REGISTER NOTICE OF PREVIOUS ANNOUNCEMENT: 81 FR 62500.

CHANGE IN THE MEETING: This meeting was continued on September 15, 2016.

This meeting also discussed:

Internal personnel rules and internal rules and practices.

Investigatory records compiled for law enforcement purposes or information which if written would be contained in such records.

Information the premature disclosure of which would be likely to have a considerable adverse effect on the implementation of a proposed Commission action.

* * * * *

PERSON TO CONTACT FOR INFORMATION: Judith Ingram, Press Officer, Telephone: (202) 694-1220.

Shelley E. Garr,
Deputy Secretary .

[FR Doc. 2016-22725 Filed 9-16-16; 4:15 pm]

BILLING CODE 6715-01-P